DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Tuesday, October 20, 2015, from 8:30 a.m. to 3:45 p.m.

ADDRESSES: 901 N. Stuart Street, Suite 200, Arlington, VA 22203.

FOR FURTHER INFORMATION CONTACT: Dr. Anne Andrews, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the October 20, 2015 meeting is to review new start research in the Resource Conservation and Climate Change field requesting Strategic Environmental Research and Development Program funds as required by the SERDP Statute, U.S. Code—Title 10, Subtitle A, Part IV, Chapter 172, § 2904. The full agenda follows:

Agenda for October 20, 2015
8:30 a.m. | Convene/Opening Remarks, Approval of September 2015 Minutes | Dr. Joseph Hughes, Chair.
8:40 a.m. | Program Update | Dr. Anne Andrews, Acting Executive Director.
8:55 a.m. | Resource Conservation and Climate Change Overview | Dr. John Hall, Resource Conservation and Climate Change, Program Manager.
9:05 a.m. | 16 RC01-006 (RC-2633): Assessing White-Nose Syndrome and Non-Stationary Changes on Bat Populations on and Near DoD Installations in the West (FY16 New Start) | Dr. Tonie Rocke, USGS National Wildlife Health Center, Madison, WI. Dr. James Lloyd-Smith, University of California, Los Angeles, Los Angeles, CA.
9:50 a.m. | Break. |
10:05 a.m. | Resource Conservation and Climate Change Overview
10:15 a.m. | 16 RC02-002 (RC-2640): Fundamental Measurements and Modeling of Prescribed Fire Behavior in the Naturally Heterogeneous Fuel Beds of Southern Pine Forests (FY16 New Start) | Dr. Brian Allan, University of Illinois Urbana-Champaign, Urbana, IL.
11:00 a.m. | 16 RC02-016 (RC-2641): Multi-scale Analyses of Wildland Fire Combustion Processes in Open-Canopied Forests Using Coupled and Iteratively Informed Laboratory-, Field-, and Model-Based Approaches (FY16 New Start) | Dr. Richard Ostfeld, Cary Institute of Ecosystem Studies, Millbrook, NY.
11:45 a.m. | Lunch
12:45 p.m. | 16 RC02-015 (RC-2651): Ignition, Propagation, and Emissions of Smoldering Combustion: Experimental Analysis and Physics Based Modelling (FY16 New Start) | Dr. Corinne Richards-Zawacki, Tulane University, New Orleans, LA.
1:30 p.m. | 16 RC02-020 (RC-2642): Examination of Wildland Fire Spread at Small Scales Using Direct Numerical Simulations and Frequency Comb Laser Diagnostics (FY16 New Start) | Dr. Sharon Bewick, University of Maryland, College Park, College Park, MD.
2:15 p.m. | Break
2:30 p.m. | 16 RC02-026 (RC-2643): Improving Parameterization of Combustion Processes in Coupled Fire-Atmosphere Models through Infrared Remote Sensing (FY16 New Start) | Dr. John Hall, Resource Conservation and Climate Change, Program Manager.
3:15 p.m. | Strategy Session | Dr. John Marra, NOAA NESDIS NCEI, Honolulu, HI.
3:45 p.m. | Public Discussion/Adjourn for the day | Dr. John Hall, Resource Conservation and Climate Change, Program Manager.

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/.

Time is allotted at the close of each meeting day for the public to make comments. Oral comments are limited to 5 minutes per person.

Dated: September 23, 2015.
Aaron Siegel,
Alternate OSD Federal Register Liaison Officer, Department of Defense.

[FR Doc. 2015-24595 Filed 9-28-15; 8:45 am]

BILLING CODE 5001-06-P